DEPARTMENT OF THE INTERIOR

National Park Service

Cedar Creek and Belle Grove National Historical Park Advisory Commission; Notice of Meetings

AGENCY: National Park Service, Interior.

SUMMARY: Notice is hereby given in accordance with the Federal Advisory Committee Act that meetings of the Cedar Creek and Belle Grove National Historical Park Advisory Commission will be held to discuss the development of the Park's general management plan.

Dates and Locations: September 20, 2007, at the Warren County Government Center, 220 N. Commerce Ave., Front Royal, VA; December 13, 2007, at the Strasburg Town Hall Council Chambers, 174 East King St., Strasburg, VA; March 20, 2008, at the Middletown Town Hall Council Chambers, 7875 Church St., Middletown, VA; and June 19, 2008, at the Warren County Government Center.

All meetings will convene at 9 a.m. and are open to the public.

FOR FURTHER INFORMATION CONTACT: Diann Jacox, Superintendent, Cedar Creek and Belle Grove National Historical Park, (540) 868-9176.

SUPPLEMENTARY INFORMATION: Topics to be discussed at the meetings include: Review of draft plan, general management plan public comments, planning process and schedule, land protection planning, environmental impact analysis, election of a commission chair, and commission sub-committees.

Dated: July 31, 2007.
Christopher J. Stubbs,
Acting Superintendent, Cedar Creek and Belle Grove National Historical Park.

[FR Doc. 07-4078 Filed 8-20-07; 8:45 am]

BILLING CODE 4310-AN-M